TENNESSEE VALLEY AUTHORITY

Final Environmental Impact Statement—Nolichucky Reservoir Flood Remediation Project

AGENCY: Tennessee Valley Authority (TVA).

ACTION: Issuance of Record of Decision.

SUMMARY: This notice is provided in accordance with the Council on Environmental Quality's regulations (40 CFR parts 1500 to 1508) and TVA's procedures implementing the National Environmental Policy Act. TVA has decided to adopt Alternative A—No Action, the preferred alternative identified in its Final Environmental Impact Statement (EIS), Nolichucky Reservoir Flood Remediation Project. In implementing Alternative A, TVA would continue to provide updated flood level information to local agencies and individuals. This would not preclude TVA working with individual landowners to address problems in the future. TVA would take no other action to address the impacts of flooding of private land and property around Nolichucky Reservoir.

FOR FURTHER INFORMATION CONTACT: Charles P. Nicholson, NEPA Program Manager, Environmental Stewardship & Policy, Tennessee Valley Authority, 400 West Summit Hill Drive WT 11B, Knoxville, Tennessee 37902-1401; telephone (865) 632-3582 or e-mail cpnicholson@tva.gov.

SUPPLEMENTARY INFORMATION: Nolichucky Dam was built by the Tennessee Eastern Electric Company in 1913 at mile 46 on the Nolichucky River, about 7.5 miles south of Greeneville, Greene County, Tennessee. Nolichucky Reservoir, also known as Davy Crockett Lake, extends upstream about 6 miles from the dam. TVA acquired the project in 1945 and operated it as a single-purpose power production facility. By 1945, sand and silt from mining in the upper Nolichucky watershed in western North Carolina had begun to fill the reservoir. The sediment in the reservoir continued to accumulate to the point that TVA removed the electric generators from service between 1965 and 1972. Since 1972, the project has been jointly managed by TVA, the Tennessee Wildlife Resources Agency, and local organizations for wildlife management, environmental education, and recreation.

The Federal government owns approximately 1,400 acres of land under and around Nolichucky Reservoir and holds easements giving it the right to flood an additional 370 acres of land along this part of the river. At the time TVA acquired these landrights in 1945, the landrights did not include all of the area affected by Nolichucky Dam during flood events. Since then, the 100-year flood elevation has increased up to 10 feet due to the accumulated sediment in the reservoir. The federal landrights include about 54 percent of the area within the present 500-year floodplain and about 63 percent of the area within the 100-year floodplain.

TVA published a Notice of Intent to prepare this EIS in the Federal Register on January 12, 2000. Public and agency scoping meetings were held on January 20, 2000; 52 people attended the public scoping meeting. Scoping comments were received from one Federal agency, one nongovernmental organization, and seven individuals. Following a series of agency and public workshops, the Draft EIS was released in January 2002 and the Notice of Availability of the Draft EIS was published in the Federal Register on February 8, 2002. TVA held a public meeting on the Draft EIS in on February 21, 2002 and accepted comments through March 29, 2002. Comments on the Draft EIS were received from 65 individuals. Two federal agencies and three state agencies. The Notice of Availability for the Final EIS was published in the Federal Register on November 3, 2006.

Alternatives Considered

TVA identified four alternatives in the EIS.

Under Alternative A—No Action, TVA would provide updated flood level information to local agencies and individuals but would not take any other actions to address flood impacts on nonfederal lands. TVA would continue to maintain Nolichucky Dam and Powerhouse as required by federal dam safety regulations and to preserve their historic value. TVA would maintain the reservoir's recreational uses through agreements with other agencies and organizations that provide for wildlife management, environmental education, and public parks.

Under Alternative B—Acquire Landrights, TVA would address flood impacts on nonfederal lands by acquiring either fee title or easements with the right to flood all of the nonfederal land within the present 500-year floodplain around Nolichucky Reservoir (about 1,060 acres). If TVA acquired fee title, TVA would buy the affected land and all structures built on it and would hold all rights concerning use of that land. If TVA acquired only a flowage easement, TVA would buy the right to overflow and flood specific parts of the property on an intermittent and temporary basis. The owner could continue to use the easement land in many ways, but would relinquish the right to build structures below a specific elevation and would have to receive TVA approval prior to developing the affected land. TVA would maintain the reservoir's recreational uses through agreements with other agencies and organizations that provide for wildlife management, environmental education, and public parks. Most new land acquired in fee would probably be added to the existing wildlife management area. TVA would continue to maintain Nolichucky Dam and Powerhouse as required by federal dam safety regulations and to preserve their historic value. This alternative could be implemented within 3 years and would cost between $15 and $20 million.

Under Alternative C—Lower Nolichucky Dam, TVA would address flood impacts on nonfederal lands by lowering the Nolichucky Dam spillway after removing or stabilizing sediment in the reservoir. The spillway would be lowered by about 40 feet so that the 500-year flood elevation would only affect land already in federal ownership or covered by flowage easement. This would reduce the reservoir pool area from 455 to about 160 acres and convert much of it into a more riverine environment. All federal land around the reservoir would remain in public ownership and would continue to be used for wildlife management, environmental education, and public parks. TVA would continue to maintain Nolichucky Dam and Powerhouse as required by federal dam safety regulations and to preserve their historic value. This alternative would require 5 to 10 years to implement and cost between $45 and $70 million.

Under Alternative D—Remove Nolichucky Dam, TVA would address flood impacts on nonfederal lands by removing all visible components of Nolichucky Dam and Powerhouse and removing or stabilizing sediment in the reservoir. In accordance with historic preservation requirements, TVA would document the dam and powerhouse and preserve qualifying equipment. Up to 19,000 acre-feet (30 million cubic yards) would be removed from the reservoir area and deposited on nearby lands. In cooperation with appropriate state and local agencies, TVA would determine how the federal lands would be used, probably as parts of modified versions of the existing wildlife management, environmental education, and public park areas. This alternative would require 10 to 12 years to implement and cost between $90 and $150 million.

TVA did not identify a preferred alternative in the Draft EIS. TVA identified Alternative A—No Action as the preferred alternative in the Final EIS.

Comments on the Final EIS

TVA received comments on the Final EIS from the Environmental Protection Agency, the Tennessee Wildlife Resources Agency, and one individual affected by the flooding. The Tennessee Wildlife Resources Agency expressed a preference for Alternative B. The Environmental Protection Agency did not express a preference for any alternative and noted the positive and negative aspects of each alternative. They did, however, suggest further consideration of Alternative B. TVA has carefully considered Alternative B and, as described below, decided to adopt Alternative A.

The Environmental Protection Agency requested a more detailed analysis of the potential impacts of the preferred No Action Alternative on minority and low-income populations. The Environmental Justice analysis in the FEIS was based on relatively large census tracts and concluded that the action alternatives would not result in disproportionate impacts on minority and low-income populations. TVA has repeated this analysis for minority populations using data from smaller census blocks adjoining Nolichucky Reservoir. Minority populations made up about 1.2 percent of the year 2000 population of 578 persons in these blocks. This proportion is well below the national, state, and county levels, and below that of the larger census tracts in which the blocks are located. The population within this area is well dispersed and there are few concentrations of residents within the floodplain. Data on low-income populations are not available for individual census blocks. A small cluster of low-cost housing occurs in the floodplain on the right bank of the reservoir; housing on the left bank is widely dispersed with no similar clusters. Due to the low percentage of minority populations, the low poverty level in much of the area, and the scattered location of housing in most of the area, no disproportionate effect on minority or low-income populations is anticipated.

Decision

TVA has decided to adopt Alternative A—No Action.

Alternative A—No Action was selected over the other alternatives because it would result in few, if any, additional adverse environmental impacts, and could be implemented at little cost to TVA. As described in the FEIS, TVA has determined that the rate of sediment inflow into Nolichucky Reservoir has greatly decreased in recent years, and the present sediment inflow rate is likely close to the sand dredging removal rate of around 70,000 tons per year. Based on this sediment inflow rate, there is little potential for flood damage to lands and existing structures within the floodplain to markedly increase in the future, even in the absence of sand dredging. TVA, however, would continue to permit qualified sand dredging operations to operate in the reservoir, further reducing the potential for increased future flood damages. While the risk of flooding would slowly decrease under this alternative assuming sand dredging continues, the risk of flooding non-federal property would continue. Community awareness of flood risk, however, has increased in part because of this EIS process, and because TVA has provided updated flood level information to the community. In the event that flooding of some property occurs in the future, TVA would address it on a case by case basis as it has in the past.

In reaching this decision, TVA has carefully considered both the comments and concerns voiced by the public and the results of the impact analyses. There was some support for each alternative. Based on the comments TVA received during the scoping and EIS review processes, there was strong public support for maintaining the reservoir and the existing recreational uses of the reservoir and adjacent public lands; Alternative A does this.

Alternatives C and D would eliminate the dam-related flooding. In doing so, they would partially or fully eliminate the reservoir and many of its current recreational uses. They would also destroy the wetlands habitats around the reservoir, and adversely affect the Nolichucky River downstream of the dam. While Alternative B would not have the adverse impacts of Alternatives C and D, it would cost $15 to $20 million to implement and could result in the relocation of many homeowners or restrictions on use of their property. None of the alternatives would restore the recreational benefits that once existed at Nolichucky Reservoir and have since been lost due to the accumulation of sediment.

TVA has determined that the implementation of Alternative A would not affect historic properties and has consulted with the Tennessee State Historic Preservation Officer (SHPO) in accordance with Section 106 of the National Historic Preservation Act. The SHPO concurred with TVA's determination on April 28, 2005. The U.S. Fish and Wildlife Service (USFWS) also concurred that implementation of Alternative A would not adversely affect federally listed or proposed endangered or threatened species.

Environmentally Preferred Alternative

Alternative B is the environmentally preferred alternative because it would accomplish the project purpose of alleviating the flood impacts on private land and property, would not involve any adverse impacts on the surrounding natural and human environment, would increase the land area available for public recreation, and would enhance the conservation of many resources. Even though Alternative B is the environmentally preferred alternative, Alternative A also would not have adverse environmental impacts.

Mitigation

Alternative A—No Action that TVA has selected is not anticipated to adversely affect natural or human resources, and consequently TVA has determined that no associated mitigation measures are necessary. TVA does commit, however, to providing updated flood level information to local agencies and individuals so that they are better aware of flooding risks.

Dated: April 13, 2007.
Kathryn J. Jackson,
Executive Vice President, River System Operations & Environment.

[FR Doc. E7-7439 Filed 4-18-07; 8:45 am]

BILLING CODE 8120-08-P